FEDERAL COMMUNICATIONS COMMISSION

[DA 07-2006]

FCC Alerts Public and Merchants of Fraudulent Credit Card Purchases Through Internet Protocol (IP) Relay Service, a Form of Telecommunications Relay Services (TRS)

AGENCY: Federal Communications Commission.

ACTION: Notice.

SUMMARY: In this document, the Commission urges merchants to use caution in handling telephone orders for goods. The Commission has received informal complaints that people without disabilities, who are posing as deaf or hard of hearing consumers, are misusing an Internet base telecommunications relay service (“TRS” or “Relay Service”) called “IP Relay” to perpetrate fraudulent business transactions, often by using stolen or fake credit cards.

ADDRESSES: Federal Communications Commission, 445 12th Street, SW., Washington, DC 20554.

FOR FURTHER INFORMATION CONTACT: Dana Jackson, (202) 418-2247 (voice), (202) 418-7898 (TTY), or e-mail Dana.Jackson@fcc.gov.

SUPPLEMENTARY INFORMATION: This is a summary of document DA 07-2006, released May 4, 2007. The full text of document DA 07-2006 and copies of any subsequently filed documents relating to this matter will be available for public inspection and copying during regular business hours at the FCC Reference Information Center, Portals II, 445 12th Street, SW., Room CY-A257, Washington, DC 20554. Document DA 07-2006 and copies of subsequently filed documents in this matter may also be purchased from the Commission's contractor at Portals II, 445 12th Street, SW., Room CY-B402, Washington, DC 20554. Customers may contact the Commission's contractor at their Web site http://www.bcpiweb.com or by calling 1-800-378-3160.

To request materials in accessible formats for people with disabilities (Braille, large print, electronic files, audio format), send an e-mail to fcc504@fcc.gov or call the Consumer & Governmental Affairs Bureau at (202) 418-0530 (voice) or (202) 418-0432 (TTY). Document DA 07-2006 can also be downloaded in Word and Portable Document Format (PDF) at http://www.fcc.gov/cgb.dro.

Synopsis

The Commission urges merchants to use caution in handling telephone orders for goods. Merchants that accept orders made by telephone for goods and services should take steps to ensure that, for any order placed by phone, the payment method or credit card is valid and the purchaser is authorized to use the particular credit card. In addition, there are some indicia of fraudulent telephone orders or business transactions that merchants can use to help determine if an order placed by phone is legitimate. These indicia include a caller who: (1) Is happy to order “whatever you have in stock”; (2) supplies multiple credit cards as one or more are declined; (3) cannot provide the credit card verification code number (the three digit number on the back of the card); (4) wants the goods shipped through a third party and/or an overseas location; (5) will not identify himself or give a company name; (6) changes delivery or payment method after an order has been approved.

The Commission reminds merchants that TRS provides access to telephone services for people who are deaf or hard of hearing or who have a speech disability. This is accomplished through TRS facilities that are staffed by specially trained communications assistants (CAs) (also called ‘relay operators’) who relay conversations between people who use different types of telecommunications devices. Initially, all Relay Service calls were made to or from a text telephone (TTY) connected to a regular telephone line. The CA served as the “link” in the conversation, converting TTY text for the TTY user to voice for the telephone user to hear, and converting voice messages to text for the TTY user to read. Many TRS users now use a computer or similar device and the Internet to communicate with an “IP Relay” CA, who continues to serve as the “link” to the telephone user. Advancements in technology are enabling other forms of TRS as well, such as connecting through video conferencing equipment with a CA who is a sign language interpreter. See FCC's Fact Sheet about TRS at http://www.fcc.gov/cgb/consumerfacts/trs.html. The Commission also reminds merchants who accept telephone orders that they must not “hang up” on calls made through a Relay Service. Title III of the Americans with Disabilities Act of 1990 (ADA) requires merchants to ensure that people with disabilities have access to their services. Therefore, if a merchant accepts telephone orders from the general public, the merchant cannot refuse to accept calls from people who are deaf or hard of hearing or who have a speech disability who call through a Relay Service. Calls made through a Relay Service can and must be handled in the same way as any telephone call. For more information on the applicability of the ADA in this context, see generally the United States Department of Justice's ADA homepage, at http://www.usdoj.gov/crt/ada/adahom1.htm or contact the DOJ ADA Information Line at 800-514-0301 (voice) or 800-514-0383 (TTY).

Purchases made with stolen or fake credit cards are illegal, and the Department of Justice and the FBI can investigate. The Federal Trade Commission is also aware of this problem. Persons who have been defrauded should contact the FTC directly at http://www.ftc.gov or 877-FTC-HELP. The FBI also has a Web site for complaints and information regarding Internet crimes: http://www.ic3.gov. The public may also contact the FCC's Consumer Assistance Information Line at 1-888-225-5322 (voice) or 1-888-835-5322 (TTY). The Commission has a pending Further Notice of Proposed Rulemaking which is examining other steps the FCC might take to prevent misuse of the IP Relay.

See http://hraunfoss.fcc.gov/edocs_public/attachmatch/FCC-06-58A1.doc.

Federal Communications Commission.
Jay Keithley,
Deputy Bureau Chief, Consumer & Governmental Affairs Bureau.

[FR Doc. E7-9336 Filed 5-15-07; 8:45 am]

BILLING CODE 6712-01-P